DEPARTMENT OF ENERGY

Federal Energy Regulatory Commission

Combined Notice of Filings No. 2

August 24, 2010.

Take notice that the Commission received the following electric rate filings:

Docket Numbers: ER10-2336-000.

Applicants: DeGreeff DP, LLC.

Description: DeGreeff DP, LLC submits tariff filing per 35.12: DeGreeffpa, DP, LLC Baseline Filing to be effective 8/25/2010.

Filed Date: 08/24/2010.

Accession Number: 20100824-5065.

Comment Date: 5 p.m. Eastern Time on Tuesday, September 14, 2010.

Docket Numbers: ER10-2337-000.

Applicants: CL Power Sales Eight, L.L.C.

Description: CL Power Sales Eight, L.L.C. submits tariff filing per 35.12: CL Power Sales Eight, L.L.C. Baseline Filing to be effective 8/25/2010.

Filed Date: 08/24/2010.

Accession Number: 20100824-5066.

Comment Date: 5 p.m. Eastern Time on Tuesday, September 14, 2010.

Docket Numbers: ER10-2338-000.

Applicants: CP Power Sales Nineteen, L.L.C.

Description: CP Power Sales Nineteen, L.L.C. submits tariff filing per 35.12: CP Power Sales Nineteen, L.L.C. Baseline Filing to be effective 8/25/2010.

Filed Date: 08/24/2010.

Accession Number: 20100824-5067.

Comment Date: 5 p.m. Eastern Time on Tuesday, September 14, 2010.

Docket Numbers: ER10-2339-000.

Applicants: CP Power Sales Seventeen, L.L.C.

Description: CP Power Sales Seventeen, L.L.C. submits tariff filing per 35.12: CP Power Sales Seventeen, L.L.C. Baseline Filing to be effective 8/25/2010.

Filed Date: 08/24/2010.

Accession Number: 20100824-5068.

Comment Date: 5 p.m. Eastern Time on Tuesday, September 14, 2010.

Docket Numbers: ER10-2340-000.

Applicants: CP Power Sales Twenty, L.L.C.

Description: CP Power Sales Twenty, L.L.C. submits tariff filing per 35.12: CP Power Sales Twenty, L.L.C. Baseline Filing to be effective 8/25/2010.

Filed Date: 08/24/2010.

Accession Number: 20100824-5069.

Comment Date: 5 p.m. Eastern Time on Tuesday, September 14, 2010.

Docket Numbers: ER10-2341-000.

Applicants: Edison Mission Marketing & Trading, Inc.

Description: Edison Mission Marketing & Trading, Inc. submits tariff filing per 35.12: Edison Mission Marketing & Trading, Inc. Baseline Filing to be effective 8/25/2010.

Filed Date: 08/24/2010.

Accession Number: 20100824-5070.

Comment Date: 5 p.m. Eastern Time on Tuesday, September 14, 2010.

Docket Numbers: ER10-2342-000.

Applicants: Edison Mission Solutions, LLC.

Description: Edison Mission Solutions, LLC submits tariff filing per 35.12: Edison Mission Solutions, LLC Baseline Filing to be effective 8/25/2010.

Filed Date: 08/24/2010.

Accession Number: 20100824-5071.

Comment Date: 5 p.m. Eastern Time on Tuesday, September 14, 2010.

Docket Numbers: ER10-2343-000.

Applicants: J.P. Morgan Commodities Canada Corporation.

Description: J.P. Morgan Commodities Canada Corporation submits tariff filing per 35.12: Baseline eTariff Filing Pursuant to Order No. 714 to be effective 8/25/2010.

Filed Date: 08/24/2010.

Accession Number: 20100824-5072.

Comment Date: 5 p.m. Eastern Time on Tuesday, September 14, 2010.

Docket Numbers: ER10-2344-000.

Applicants: EME Homer City Generation, L.P.

Description: EME Homer City Generation, L.P. submits tariff filing per 35.12: EME Homer City Generation. L.P. Baseline Filing to be effective 8/25/2010.

Filed Date: 08/24/2010.

Accession Number: 20100824-5073.

Comment Date: 5 p.m. Eastern Time on Tuesday, September 14, 2010.

Docket Numbers: ER10-2345-000.

Applicants: Domtar Maine, LLC.

Description: Domtar Maine, LLC submits tariff filing per 35.12: Application for MBR Authority and Request for Waivers and Blanket Authorization to be effective 9/23/2010.

Filed Date: 08/24/2010.

Accession Number: 20100824-5074.

Comment Date: 5 p.m. Eastern Time on Tuesday, September 14, 2010.

Docket Numbers: ER10-2346-000.

Applicants: Forward WindPower LLC.

Description: Forward WindPower LLC submits tariff filing per 35.12: Forward Wind Power LLC Baseline Filing to be effective 8/25/2010.

Filed Date: 08/24/2010.

Accession Number: 20100824-5075.

Comment Date: 5 p.m. Eastern Time on Tuesday, September 14, 2010.

Docket Numbers: ER10-2347-000.

Applicants: Groen Wind, LLC.

Description: Groen Wind, LLC submits tariff filing per 35.12: Groen Wind, LLC Baseline Filing to be effective 8/25/2010.

Filed Date: 08/24/2010.

Accession Number: 20100824-5079.

Comment Date: 5 p.m. Eastern Time on Tuesday, September 14, 2010.

Docket Numbers: ER10-2348-000.

Applicants: High Lonesome Mesa, LLC.

Description: High Lonesome Mesa, LLC submits tariff filing per 35.12: High Lonesome Mesa, LLC Baseline Filing to be effective 8/25/2010.

Filed Date: 08/24/2010.

Accession Number: 20100824-5082.

Comment Date: 5 p.m. Eastern Time on Tuesday, September 14, 2010.

Docket Numbers: ER10-2349-000.

Applicants: New York Independent System Operator, Inc.

Description: New York Independent System Operator submits tariff filing per 35.13(a)(2)(iii: LGIA—NYSEG and Standard Binghamton—8/24/10 to be effective 8/24/2010.

Filed Date: 08/24/2010.

Accession Number: 20100824-5085.

Comment Date: 5 p.m. Eastern Time on Tuesday, September 14, 2010.

Docket Numbers: ER10-2350-000.

Applicants: Hillcrest Wind, LLC.

Description: Hillcrest Wind, LLC submits tariff filing per 35.12: Hillcrest Wind, LLC Baseline Filing to be effective 8/25/2010.

Filed Date: 08/24/2010.

Accession Number: 20100824-5089.

Comment Date: 5 p.m. Eastern Time on Tuesday, September 14, 2010.

Docket Numbers: ER10-2351-000.

Applicants: Jeffers Winder 20, LLC.

Description: Jeffers Winder 20, LLC submits tariff filing per 35.12: Jeffers Wind 20, LLC Baseline Filing to be effective 8/25/2010.

Filed Date: 08/24/2010.

Accession Number: 20100824-5098.

Comment Date: 5 p.m. Eastern Time on Tuesday, September 14, 2010.

Docket Numbers: ER10-2352-000.

Applicants: Larswind, LLC.

Description: Larswind, LLC submits its Baseline FERC Electric Tariff pursuant to Order No 714, to be effective 8/25/2010.

Filed Date: 08/24/2010.

Accession Number: 20100824-5099.

Comment Date: 5 p.m. Eastern Time on Tuesday, September 14, 2010.

Docket Numbers: ER10-2353-000.

Applicants: Lookout WindPower LLC.

Description: Lookout WindPower LLC submits tariff filing per 35.12: Lookout WindPower LLC Baseline Filing to be effective 8/25/2010.

Filed Date: 08/24/2010.

Accession Number: 20100824-5100.

Comment Date: 5 p.m. Eastern Time on Tuesday, September 14, 2010.

Docket Numbers: ER10-2354-000.

Applicants: Midway-Sunset Cogeneration Company.

Description: Midway-Sunset Cogeneration Company submits tariff filing per 35.12: Midway Sunset Cogeneration Company to be effective 8/25/2010.

Filed Date: 08/24/2010.

Accession Number: 20100824-5101.

Comment Date: 5 p.m. Eastern Time on Tuesday, September 14, 2010.

Docket Numbers: ER10-2355-000.

Applicants: Midwest Generation LLC.

Description: Midwest Generation LLC submits tariff filing per 35.12: Midwest Generation, LLC Baseline Filing to be effective 8/25/2010.

Filed Date: 08/24/2010.

Accession Number: 20100824-5102.

Comment Date: 5 p.m. Eastern Time on Tuesday, September 14, 2010.

Docket Numbers: ER10-2356-000.

Applicants: Sierra Wind, LLC.

Description: Sierra Wind, LLC submits tariff filing per 35.12: Sierra Wind, LLC Baseline Filing to be effective 8/25/2010.

Filed Date: 08/24/2010.

Accession Number: 20100824-5106.

Comment Date: 5 p.m. Eastern Time on Tuesday, September 14, 2010.

Docket Numbers: ER10-2357-000.

Applicants: Sleeping Bear, LLC.

Description: Sleeping Bear, LLC submits tariff filing per 35.12: Sleeping Bear, LLC Baseline Filing to be effective 8/25/2010.

Filed Date: 08/24/2010.

Accession Number: 20100824-5107.

Comment Date: 5 p.m. Eastern Time on Tuesday, September 14, 2010.

Docket Numbers: ER10-2358-000.

Applicants: Storm Lake Power Partners I LLC.

Description: Storm Lake Power Partners I LLC submits tariff filing per 35.12: Storm Lake Power Partners I, LLC Baseline Filing to be effective 8/25/2010.

Filed Date: 08/24/2010.

Accession Number: 20100824-5108.

Comment Date: 5 p.m. Eastern Time on Tuesday, September 14, 2010.

Docket Numbers: ER10-2359-000.

Applicants: Sunrise Power Company, LLC.

Description: Sunrise Power Company, LLC submits tariff filing per 35.12: Sunrise Power Company, LLC Baseline Filing to be effective 8/25/2010.

Filed Date: 08/24/2010.

Accession Number: 20100824-5109.

Comment Date: 5 p.m. Eastern Time on Tuesday, September 14, 2010.

Docket Numbers: ER10-2360-000.

Applicants: TAIR Windfarm, LLC.

Description: TAIR Windfarm, LLC submits tariff filing per 35.12: TAIR Windfarm, LLC Baseline Filing to be effective 8/25/2010.

Filed Date: 08/24/2010.

Accession Number: 20100824-5110.

Comment Date: 5 p.m. Eastern Time on Tuesday, September 14, 2010.

Docket Numbers: ER10-2361-000.

Applicants: Wildorado Wind, LLC.

Description: Wildorado Wind, LLC submits its Baseline Filing of FERC Electric Tariff, pursuant to Order No 714, to be effective 8/25/2010.

Filed Date: 08/24/2010.

Accession Number: 20100824-5111.

Comment Date: 5 p.m. Eastern Time on Tuesday, September 14, 2010.

Docket Numbers: ER10-2362-000.

Applicants: Coalinga Cogeneration Company.

Description: Coalinga Cogeneration Company submits its Baseline Filing of FERC Electric Tariff, pursuant to Order No 714, to be effective 8/25/2010.

Filed Date: 08/24/2010.

Accession Number: 20100824-5112.

Comment Date: 5 p.m. Eastern Time on Tuesday, September 14, 2010.

Docket Numbers: ER10-2363-000.

Applicants: Kern River Cogeneration Company.

Description: Kern River Cogeneration Company submits tariff filing per 35.12: Kern River Cogeneration Company Baseline Filing to be effective 8/25/2010.

Filed Date: 08/24/2010.

Accession Number: 20100824-5113.

Comment Date: 5 p.m. Eastern Time on Tuesday, September 14, 2010.

Docket Numbers: ER10-2364-000.

Applicants: Mid-Set Cogeneration Company.

Description: Mid-Set Cogeneration Company submits tariff filing per 35.12: Mid-Set Cogeneration Company Baseline Filing to be effective 8/25/2010.

Filed Date: 08/24/2010.

Accession Number: 20100824-5114.

Comment Date: 5 p.m. Eastern Time on Tuesday, September 14, 2010.

Docket Numbers: ER10-2365-000.

Applicants: Salinas River Cogeneration Company.

Description: Salinas River Cogeneration Company submits tariff filing per 35.12: Salinas River Cogeneration Company Baseline Filing to be effective 8/25/2010.

Filed Date: 08/24/2010.

Accession Number: 20100824-5115.

Comment Date: 5 p.m. Eastern Time on Tuesday, September 14, 2010.

Docket Numbers: ER10-2366-000.

Applicants: Sargent Canyon Cogeneration Company.

Description: Sargent Canyon Cogeneration Company submits tariff filing per 35.12: Sargent Canyon Cogeneration Company to be effective 8/25/2010.

Filed Date: 08/24/2010.

Accession Number: 20100824-5116.

Comment Date: 5 p.m. Eastern Time on Tuesday, September 14, 2010.

Docket Numbers: ER10-2367-000.

Applicants: Sycamore Cogeneration Company.

Description: Sycamore Cogeneration Company submits tariff filing per 35.12: Sycamore Cogeneration Company Baseline Filing to be effective 8/25/2010.

Filed Date: 08/24/2010.

Accession Number: 20100824-5117.

Comment Date: 5 p.m. Eastern Time on Tuesday, September 14, 2010.

Docket Numbers: ER10-2368-000.

Applicants: Laredo Ridge Wind, LLC.

Description: Laredo Ridge Wind, LLC submits tariff filing per 35.12: Laredo Ridge Wind Baseline Filing to be effective 8/25/2010.

Filed Date: 08/24/2010.

Accession Number: 20100824-5118.

Comment Date: 5 p.m. Eastern Time on Tuesday, September 14, 2010.

Docket Numbers: ER10-2369-000.

Applicants: Taloga Wind, LLC.

Description: Taloga Wind, LLC submits tariff filing per 35.12: Taloga Wind Baseline Filing to be effective 8/25/2010.

Filed Date: 08/24/2010.

Accession Number: 20100824-5119.

Comment Date: 5 p.m. Eastern Time on Tuesday, September 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-21656 Filed 8-30-10; 8:45 am]

BILLING CODE 6717-01-P